SMALL BUSINESS ADMINISTRATION

Region IV Small Business Regulatory Fairness Board; Public Federal Regulatory Enforcement Fairness Hearing

The U.S. Small Business Administration, Region IV Small Business Regulatory Fairness Board and the SBA Office of the National Ombudsman will hold a public hearing on Thursday, May 26, 2005, at 8:30 a.m., at the Mobile Chamber of Commerce, McGowin Room, 451 Government Street, Mobile AL 36602-2319, phone (251) 433-6951, to receive comments and testimony from small business owners, small government entities, and small non-profit organizations concerning regulatory enforcement and compliance actions taken by Federal agencies.

Anyone wishing to attend or to make a presentation must contact L.D. Ralph in writing or by fax, in order to be put on the agenda. L.D. Ralph, Loan Specialist, SBA Alabama District Office, 801 Tom Martin Drive, Suite 201, Birmingham, AL 35211, phone (205) 290-7101, Ext. 237, fax (202) 481-4009, e-mail: lafero.ralph@sba.gov.

For more information, please see our Web site at http://www.sba.gov/ombudsman.

Matthew K. Becker,
Committee Management Officer.

[FR Doc. 05-8566 Filed 4-28-05; 8:45 am]

BILLING CODE 8025-01-P